DEPARTMENT OF HOMELAND SECURITY

U.S. Citizenship and Immigration Services

Agency Information Collection Activities: Form I-590, Extension of a Currently Approved Information Collection; Comment Request

Correction

In notice document E7-12834 appearing on page 36475 in the issue of Tuesday, July 3, 2007, make the following correction:

In the first column, in the first paragraph, in the last line, “August 2, 2007” should read “September 4, 2007”.

[FR Doc. Z7-12834 Filed 7-11-07; 8:45 am]

BILLING CODE 1505-01-D